DEPARTMENT OF AGRICULTURE

Forest Service

Shoshone National Forest Travel Management; Shoshone National Forest, Wyoming

AGENCY: Forest Service, USDA.

ACTION: Notice of extension of public scoping period for the Shoshone National Forest Travel Management environmental impact statement.

SUMMARY: The Shoshone National Forest (SNF) is extending the public scoping period for the SNF Travel Management environmental impact statement (EIS). The SNF previously published a notice of intent to prepare an EIS as well as notice of public scoping in the Federal Register on May 27, 2016 [81 FR 33655]. The previous notice provided for public scoping through June 27, 2016.

DATES: Several individuals and organizations requested an extension of the public scoping period. The SNF Forest Supervisor has decided to accommodate these requests by extending the public scoping period through July 27, 2016.

ADDRESSES: Send written comments to Rob Robertson, 333 East Main Street, Lander, Wyoming 82520. Comments may also be sent via email to travel_management_comments@fs.fed.us, or via facsimile to 307-332-0264.

FOR FURTHER INFORMATION CONTACT: Rob Robertson at 307-335-2156 or rrobertson@fs.fed.us. Individuals who use telecommunication devices for the deaf (TDD) may call the Federal Information Relay Service (FIRS) at 1-800-877-8339 between 8 a.m. and 8 p.m., Eastern Time, Monday through Friday.

SUPPLEMENTARY INFORMATION: Written comments should be submitted to Shoshone National Forest, Attn: Rob Robertson, 333 E. Main St., Lander, WY 82520, or fax: 307-332-0264; or email at travel-comments-rocky-mountain-shoshone@fs.fed.us . Hand-delivered comments must be provided at the Supervisors' office or any of the Ranger District offices during normal business hours (8:00 a.m. to 4:30 p.m., Monday through Friday, excluding holidays).

Electronic comments must be submitted to travel-comments-rocky-mountain-shoshone@fs.fed.us in an email message, or attached in portable document format (.pdf) or Word (.docx) format.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: June 22, 2016.
Rick Metzger,
Acting Forest Supervisor.

[FR Doc. 2016-15394 Filed 6-28-16; 8:45 am]

BILLING CODE 3410-11-P